DEPARTMENT OF THE TREASURY

Submission for OMB Review; Comment Request

September 7, 2007.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 15, 2007 to be assured of consideration.

Internal Revenue Service (IRS)

OMB Number: 1545-0904.

Type of Review: Extension.

Title: INTL-45-86 (Final) TD 8125 Foreign Management and Foreign Economic Processes Requirements of a Foreign Sale Corporation.

Description: The regulations provide rules for complying with foreign management and foreign economic process requirements to enable Foreign Sales Corporations to produce foreign training gross receipts and qualify for reduced tax rates. Rules are included for maintaining records to substantiate compliance. Affected public is limited to large corporations that export goods or services.

Respondents: Businesses and other for-profits.

Estimated Total Burden Hours: 22,001 hours.

OMB Number: 1545-1651.

Type of Review: Extension.

Title: REG-118926-97 (Final) Notice of Certain Transfers to Foreign Partnerships and Foreign Corporations.

Description: Section 6038B requires U.S. persons to provide certain information when they transfer certain property to a foreign partnership or foreign corporation. This regulation provides reporting rules to identify United States persons who contribute property to foreign partnerships and to ensure the correct reporting of items with respect to those partnerships.

Respondents: Businesses and other for-profits.

Estimated Total Burden Hours: 1 hour.

OMB Number: 1545-0895.

Type of Review: Revision.

Title: General Business Credit.

Form: 3800.

Description: IRC section 38 permits taxpayers to reduce their income tax liability by the amount of their general business credit, which is an aggregation of their investment credit, jobs credit, alcohol fuel credit, research credit, low-income housing credit, disabled access credit, enhanced oil recovery credit, etc. Form 3800 is used to figure the correct credit.

Respondents: Businesses and other for-profits.

Estimated Total Burden Hours: 3,131,300 hours.

OMB Number: 1545-1903.

Type of Review: Extension.

Title: REG-124405-03 (NPRM) Optional 10-Year Write-off of Certain Tax Preferences.

Description: This collection of information is required by the IRS to verify compliance with section 59(e). This information will be used to determine whether the amount of tax has been calculated correctly.

Respondents: Businesses and other for-profits.

Estimated Total Burden Hours: 10,000 hours.

OMB Number: 1545-0086.

Type of Review: Extension.

Title: U.S. Departing Alien Income Tax Return.

Form: 1040-C.

Description: Form 1040-C is used by aliens departing the U.S. to report income received or expected to be received for the entire tax year. The data collected are used to insure that the departing alien has no outstanding U.S. tax liability.

Respondents: Individuals or households.

Estimated Total Burden Hours: 11,632 hours.

OMB Number: 1545-1102.

Type of Review: Extension.

Title: PS-19-92 (Final) Carryover Allocations and Other Rules Relating to the Low-Income Housing Credit.

Description: The regulations provide the Service the information it needs to ensure that low-income housing tax credits are being properly allocated under section 42. This is accomplished through the use of carryover allocation documents, election statements, and binding agreements executed between taxpayers (e.g. individuals, businesses, etc.) and housing credit agencies.

Respondents: Businesses and other for-profits.

Estimated Total Burden Hours: 4,008 hours.

OMB Number: 1545-1575.

Type of Review: Extension.

Title: REG-116608-97 (Final) Eligibility Requirements After Denial of the Earned Income Credit.

Description: This information is to provide guidance to taxpayers who have been denied the earned income credit (EIC).

Respondents: Individuals or households.

Estimated Total Burden Hours: 1 hour.

OMB Number: 1545-0128.

Type of Review: Revision.

Title: U.S. Life Insurance Company Income Tax Return.

Form: 1120-L; Schedule M-3 (Form 1120-L).

Description: Life Insurance companies are required to file an annual return of income and compute and pay the tax due. The data is used to insure that companies have correctly reported taxable income and paid the correct tax.

Respondents: Businesses or other for-profits.

Estimated Total Burden Hours: 436,614 hours.

OMB Number: 1545-1304.

Type of Review: Extension.

Title: INTL-941-86; INTL-656-87; and INTL-704-87 (NPRM) Treatment of Shareholders of Certain Passive Foreign Investment Companies.

Description: The reporting requirements affect U.S. persons that are direct and indirect shareholders of passive foreign investment companies (PFICs). The IRS uses Form 8621 to identify PFICs, U.S. persons that are shareholders, and transactions subject to PFIC taxation and verify income inclusions, excess distributions and deferred tax amounts.

Respondents: Businesses and other for-profits.

Estimated Total Burden Hours: 2,500 hours.

OMB Number: 1545-1135.

Type of Review: Extension.

Title: Allocation of Patronage and Nonpatronage Income and Deductions.

Form: 8817.

Description: Form 8817 is filed by taxable farmer's cooperatives to report their income and deductions by patronage and nonpatronage sources. The IRS uses the information on the form to ascertain the amounts of patronage and nonpatronage income or loss were properly computed.

Respondents: Businesses and other for-profits.

Estimated Total Burden Hours: 22,006 hours.

OMB Number: 1545-1905.

Type of Review: Extension.

Title: REG-128767-04 (Final), (TD 9289) Treatment of Disregarded Entities Under Section 752.

Description: Generally, the final regulations recognize that only the assets of a disregarded entity that limits its member's liability are available to satisfy creditors' claims under local law. The proposed regulations provide rules under section 752 for taking into account the net value of a disregarded entity owned by a partner or related person for purposes of allocating partnership liabilities.

Respondents: Businesses and other for-profits.

Estimated Total Burden Hours: 3,000 hours.

OMB Number: 1545-2069.

Type of Review: Extension.

Title: Form 8283-V Payment Voucher for Filing Fee Under Section 170(f)(13).

Form: 8283-V.

Description: The Pension Protection Act of 2006 (Pub. L. 109-280) provides in section 1213(c) of the Act that taxpayers claiming a deduction for a qualified conservation contribution with respect to the exterior of a building located in a registered historic district in excess of $10,000, must pay a $500 fee to the Internal Revenue Service or the deduction is not allowed.

Respondents: Individuals and households.

Estimated Total Burden Hours: 690 hours.

OMB Number: 1545-XXXX.

Type of Review: New.

Title: Foreign Based Importers—Non-Filers.

Description: Foreign corporations are subject to tax on income that is effectively connected with a U.S. trade or business and are required to file form 1120, 1120-f or 1065 reporting taxable income. The respondents will be foreign corporations. The information gathered will be used to determine if the foreign corporation has a U.S. trade or business and is required to file a U.S. Income Tax return.

Respondents: Businesses and other for-profits.

Estimated Total Burden Hours: 30 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-18096 Filed 9-12-07; 8:45 am]

BILLING CODE 4830-01-P